DEPARTMENT OF AGRICULTURE

Animal and Plant Health Inspection Service

7 CFR Parts 318 and 319

[Docket No. APHIS-2010-0082]

RIN 0579-AD71

Establishing a Performance Standard for Authorizing the Importation and Interstate Movement of Fruits and Vegetables

AGENCY: Animal and Plant Health Inspection Service, USDA.

ACTION: Proposed rule; reopening of comment period.

SUMMARY: We are reopening the comment period for our proposed rule that would amend our regulations governing the importation and interstate movement of fruits and vegetables by broadening our existing performance standard to provide for approval of all new fruits and vegetables for importation or interstate movement into or within the United States using a notice-based process. This action will allow interested persons additional time to prepare and submit comments.

DATES: The comment period for the proposed rule published on September 9, 2014 (79 FR 53346-53352) is reopened. We will consider all comments that we receive on or before March 10, 2015.

ADDRESSES: You may submit comments by either of the following methods:

• Federal eRulemaking Portal: Go to http://www.regulations.gov/#!docketDetail;D=APHIS-2010-0082.

• Postal Mail/Commercial Delivery: Send your comment to Docket No. APHIS-2010-0082, Regulatory Analysis and Development, PPD, APHIS, Station 3A-03.8, 4700 River Road Unit 118, Riverdale, MD 20737-1238.

Supporting documents and any comments we receive on this docket may be viewed at http://www.regulations.gov/#!docketDetail;D=APHIS-2010-0082 or in our reading room, which is located in Room 1141 of the USDA South Building, 14th Street and Independence Avenue SW., Washington, DC. Normal reading room hours are 8 a.m. to 4:30 p.m., Monday through Friday, except holidays. To be sure someone is there to help you, please call (202) 799-7039 before coming.

FOR FURTHER INFORMATION CONTACT: Ms. Nicole L. Russo, Assistant Director, Regulatory Coordination and Compliance, PPQ, APHIS, 4700 River Road Unit 133, Riverdale, MD 20737-1231; (301) 851-2159.

SUPPLEMENTARY INFORMATION: On September 9, 2014, we published in the Federal Register (79 FR 53346-53352) a proposal to amend our regulations governing the importations of fruits and vegetables by broadening our existing performance standard to provide for approval of all new fruits and vegetables for importation into the United States using a notice-based process. We also proposed to remove the region- or commodity-specific phytosanitary requirements currently found in these regulations. Likewise, we proposed an equivalent revision of the performance standard in our regulations governing the interstate movement of fruits and vegetables from Hawaii and the U.S. territories (Guam, Northern Mariana Islands, Puerto Rico, and the U.S. Virgin Islands) and the removal of commodity-specific phytosanitary requirements from those regulations. This proposal would allow for the approval of requests to authorize the importation or interstate movement of new fruits and vegetables in a manner that enables a more flexible and responsive regulatory approach to evolving pest situations in both the United States and exporting countries. It would not however, alter the science-based process in which the risk associated with importation or interstate movement of a given fruit or vegetable is evaluated or the manner in which risks associated with the importation or interstate movement of a fruit or vegetable are mitigated.

Comments on the proposed rule were required to be received on or before November 10, 2014. On December 4, 2014, we published in the Federal Register (79 FR 71973) a notice of reopening of the comment period for an additional 60 days. Comments were required to be received on or before January 9, 2015.

We are reopening the comment period on Docket No. APHIS-2010-0082 for an additional 60 days. We will also accept all comments received between January 10, 2015 (the day after the close of the initial extended comment period) and the date of this notice. This action will allow interested persons additional time to prepare and submit comments.

Authority: 7 U.S.C. 450, 7701-7772, and 7781-7786; 21 U.S.C. 136 and 136a; 7 CFR 2.22, 2.80, and 371.3.

Done in Washington, DC, this 2nd day of February 2015.
Kevin Shea,
Administrator, Animal and Plant Health Inspection Service.

[FR Doc. 2015-02404 Filed 2-5-15; 8:45 am]

BILLING CODE 3410-34-P